FEDERAL RESERVE SYSTEM

Consumer Advisory Council

Notice of Meeting of Consumer Advisory Council

The Consumer Advisory Council will meet on Thursday, June 27, 2002. The meeting, which will be open to public observation, will take place at the Federal Reserve Board’s offices in Washington, DC, in Dining Room E on the Terrace level of the Martin Building. Anyone planning to attend the meeting should register, for security purposes, no later than Tuesday, June 25 by completing the form found on-line at: http://www.federalreserve.gov/forms/cacregistration.cfm Additionally, attendees must present photo identification to enter the building.

The meeting will begin at 9:00 a.m. and is expected to conclude at 1:00 p.m. The Martin Building is located on C Street, NW, between 20th and 21st Streets.

The Council's function is to advise the Board on the exercise of the Board's responsibilities under the various consumer financial services laws and on other matters on which the Board seeks its advice. Time permitting, the Council will discuss the following topics:

Privacy Rules - Discussion of the effectiveness of the privacy rules one year after the effective date of the interagency privacy regulations.

Community Reinvestment Act - Discussion of issues identified in connection with the current review of Regulation BB, which implements the Community Reinvestment Act.

Financial Literacy - Discussion of issues raised by the Jump$tart Coalition’s survey and recent research on learning techniques and the implications for design and delivery of financial literacy training.

Committee Reports - Council committees will report on their work.

Other matters initiated by Council members also may be discussed.

Persons wishing to submit views to the Council on any of the above topics may do so by sending written statements to Ann Bistay, Secretary of the Consumer Advisory Council, Division of Consumer and Community Affairs, Board of Governors of the Federal Reserve System, Washington, DC 20551. Information about this meeting may be obtained from Ms. Bistay, 202-452-6470.

Board of Governors of the Federal Reserve System, June 3, 2002.
Jennifer J. Johnson,
Secretary of the Board.

[FR Doc. 02-14205 Filed 6-5-02; 8:45 am]

BILLING CODE 6210-01-S